DEPARTMENT OF TRANSPORTATION

Federal Aviation Administration

14 CFR Part 39

[Docket No. 2002-NM-152-AD; Amendment 39-13415; AD 2004-01-02]

RIN 2120-AA64

Airworthiness Directives; Boeing Model 767-200, -300, and -300F Series Airplanes

AGENCY: Federal Aviation Administration, DOT.

ACTION: Final rule.

SUMMARY: This amendment adopts a new airworthiness directive (AD), applicable to certain Boeing Model 767-200, -300, and -300F series airplanes. This action requires modification of the aft pitch load fitting of the diagonal brace of the nacelle strut of each wing. This action is necessary to prevent loss of the fuse pin of the pitch load fitting due to fatigue caused by improper clearance between the fuse pin and bushing, which could result in increased loads in the wing-to-strut joints and consequent separation of the strut and engine from the wing. This action is intended to address the identified unsafe condition.

DATES: Effective February 13, 2004.

The incorporation by reference of certain publications listed in the regulations is approved by the Director of the Federal Register as of February 13, 2004.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) to include an airworthiness directive (AD) that is applicable to certain Boeing Model 767-200, -300, and -300F series airplanes was published in the Federal Register on July 9, 2003 (68 FR 40834). That action proposed to require modification of the aft pitch load fitting of the diagonal brace of the nacelle strut of each wing.

Comments

Interested persons have been afforded an opportunity to participate in the making of this amendment. Due consideration has been given to the comments received.

Extend Compliance Time

One commenter requests that the proposed compliance time for the modification be extended from 18 months to “18 months or the first 4C check, whichever is later.” The commenter states that this extended compliance time would allow the modification to be accomplished during the time of a regularly scheduled heavy maintenance visit. The commenter considers that the proposed compliance time of 18 months would require operators to take each airplane out of service for four to seven days to accomplish the required modification, which would impose a major disruption on the commenter's operations.

The FAA partially agrees with the commenter's request to extend the compliance time for the modification. We cannot use indefinite or non-specific intervals, such as “first 4C check.” Since maintenance schedules vary from operator to operator, there can be no assurance that the action will be accomplished within the time frame for safe operation of the airplane. However, we do agree to extend the compliance time from 18 months to 24 months. Our original intent was to allow the modification to be accomplished at a regularly scheduled heavy maintenance visit. Extending the compliance time by six months will not adversely affect safety, and will allow the modification to be performed during the regularly scheduled heavy maintenance visits. Paragraph (a) of the final rule has been revised to specify a compliance time of 24 months.

Allow for Alternate Sealants

One commenter requests that the proposed AD indicate whether alternate sealants (alternate specifications) are allowed, per Section 51-20-05, Figure 8, dated August 15, 2002, of the Boeing 767-200, 767-300, and 767-300F Structural Repair Manuals. The commenter's intent is to prevent future requests for alternative methods of compliance (AMOC).

We infer that the operator would like to use an alternate sealant when accomplishing the required modification. We agree with the commenter's request. We have changed the final rule to allow alternate sealants.

Provide Instructions for Measuring Bushings

One commenter requests that the proposed AD contain instructions to operators for measuring the inside diameter of an affected bushing to ensure that it is oversized and requires replacement.

We infer that the commenter does not wish to replace a bushing unless it is necessary. The manufacturer has informed us that 100% of airplanes affected by this AD were manufactured with the wrong bushing internal diameter due to an error on the production drawing. Therefore, all bushings are oversized and measurement instructions are unnecessary. We have not changed the final rule regarding this issue.

Incorporate Information Notices in the Proposed AD

One commenter requests that the proposed AD be revised to incorporate two information notices (IN) that have been released relating to the proposed action since the original release of Boeing Alert Service Bulletin 767-54A0102, dated November 8, 2001, (which is referenced in the proposed AD as the appropriate source of service information for the required actions). The commenter states that the FAA has not yet reviewed and approved these Information Notices.

We concur with the commenter's request to revise the final rule as it relates to the two INs. We have reviewed and approved the two notices: Boeing Information Notice 767-54A0102 IN 01, dated July 18, 2002, which clarifies how to gain access to the affected area; and Boeing Information Notice 767-54A0102 IN 02, dated August 29, 2002, which clarifies the existing part number of the aft pitch load fitting prior to performing the required modification. Neither of these INs increases or decreases the scope of the work required by the AD. However, if the INs are incorporated into a new revision of the service bulletin we will consider approving the bulletin as an AMOC. We have changed the final rule to incorporate the two INs.

Conclusion

After careful review of the available data, including the comments noted above, the FAA has determined that air safety and the public interest require the adoption of the rule with the changes previously described. The FAA has determined that these changes will neither increase the economic burden on any operator nor increase the scope of the AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 59 airplanes of the affected design in the worldwide fleet. The FAA estimates that 32 airplanes of U.S. registry would be affected by this proposed AD, that it would take approximately 39 work hours per wing to accomplish the required actions (includes access and close-up), and that the average labor rate is $65 per work hour. Required parts will cost approximately $5,256 per airplane. Based on these figures, the cost impact of the actions required by this AD on U.S. operators is estimated to be $330,432, or $10,326 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-01-02 Boeing: Amendment 39-13415. Docket 2002-NM-152-AD.

Applicability: Model 767-200, -300, and -300F series airplanes, as listed in Boeing Alert Service Bulletin 767-54A0102, dated November 8, 2001; certificated in any category.

Compliance: Required as indicated, unless accomplished previously.

To prevent loss of the fuse pin of the aft pitch load fitting of the diagonal brace, which could result in increased loads in the wing-to-strut joints and consequent separation of the strut and engine from the wing, accomplish the following:

Modification

(a) Within 24 months after the effective date of this AD: Modify the aft pitch load fitting of the diagonal brace of the nacelle strut of each wing (including dye penetrant inspections for cracking or damage of the fitting; reworking the fitting if cracking or damage is found; honing, chamfering, measuring, and machining the fitting if no cracking or damage is found; and replacing the bushing and fuse pin with new components) by accomplishing all of the actions specified in paragraphs 3.A. through 3.J. of the Accomplishment Instructions of Boeing Alert Service Bulletin 767-54A0102, dated November 8, 2001. Clarifications to the work required by this paragraph may be used per Boeing Information Notice 767-54A0102 IN 01, dated July 18, 2002; and per Boeing Information Notice 767-54A0102 IN 02, dated August 29, 2002. Alternate sealants are allowed when accomplishing the actions required by paragraphs 3.A. through 3.J. of the service bulletin, per Section 51-20-05, Figure 8, dated August 15, 2002, of the Boeing 767-200, 767-300, and 767-300F Structural Repair Manuals. Any applicable follow-on corrective actions must be done before further flight.

Alternative Methods of Compliance

(b) In accordance with 14 CFR 39.19, the Manager, Seattle Aircraft Certification Office, FAA, is authorized to approve alternative methods of compliance (AMOCs) for this AD.

Incorporation by Reference

(c) Unless otherwise specified in this AD, the actions shall be done in accordance with Boeing Alert Service Bulletin 767-54A0102, dated November 8, 2001. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(d) This amendment becomes effective on February 13, 2004.

Issued in Renton, Washington, on December 29, 2003.
Ali Bahrami,
Acting Manager, Transport Airplane Directorate, Aircraft Certification Service.

[FR Doc. 04-122 Filed 1-8-04; 8:45 am]

BILLING CODE 4910-13-P